NATIONAL AERONAUTICS AND SPACE ADMINISTRATION

14 CFR Part 1260

RIN 2700-AD40

NASA Grant and Cooperative Agreement Handbook—C.A.S.E. Reporting and Property Delegations

AGENCY: National Aeronautics and Space Administration.

ACTION: Final Rule.

SUMMARY: This final rule amends the NASA Grant and Cooperative Agreement Handbook regulations to remove NASA Form 1356, Committee on Academic Science and Engineering (C.A.S.E.) Report. This final rule also makes an amendment to clarify the general preference for internal administration of grants and cooperative agreements with no Government-furnished property.

DATES: Effective Date: This final rule is effective June 13, 2008.

FOR FURTHER INFORMATION CONTACT: Jamiel C. Commodore, NASA, Office of Procurement, Contract Management Division; (202) 358-0302; e-mail: Jamiel.C.Commodore@nasa.gov.

SUPPLEMENTARY INFORMATION:

A. Background

The NASA Grant Handbook at § 1260.75 requires grant officers to complete the NASA Form 1356, Committee on Academic Science and Engineering (C.A.S.E.) Report on College and University Projects. The C.A.S.E. reports had once been the basis for reporting to the National Science Foundation's Federal Science and Engineering Support Survey. The information obtained on the C.A.S.E. reports is available through other available systems and the NF 1356 has been eliminated. Therefore, the requirement for grant officers to complete the form is removed.

The NASA Grant Handbook at § 1260.70 requires that property administration, in most cases, be delegated to the Office of Naval Research (ONR) but it is not clear that the requirement applies to grants that are initially awarded with Government-furnished property. Consequently, many grants without property were unnecessarily being delegated to ONR for administration.

B. Regulatory Flexibility Act

NASA certifies that this final rule will not have a significant economic impact on a substantial number of small entities within the meaning of the Regulatory Flexibility Act, 5 U.S.C. 601 et seq., because the change affects only the internal operating procedure within NASA.

C. Paperwork Reduction Act

The Paperwork Reduction Act does not apply because this rule does not impose any new recordkeeping or information collection requirements, or collection of information from offerors, contractors, or members of the public that require the approval of the Office of Management and Budget under 44 U.S.C. 3501, et seq.

List of Subjects in 14 CFR Part 1260

Grant programs—science and technology.

James A. Balinskas,
Acting Assistant Administrator for Procurement.

Accordingly, 14 CFR part 1260 is amended as follows:

PART 1260—[AMENDED]

1. The authority citation for 14 CFR part 1260 continues to read as follows:

Authority: 42 U.S.C. 2473(c)(1), Pub. L. 97-258, 96 Stat. 1003 (31 U.S.C. 6301, et seq.), and OMB Circular A-110.

2. Amend § 1260.3 by revising the definition for “progress report” in paragraph (b) to read as follows:

§ 1260.3 Definitions.

* * * * *

(b) * * *

Progress report means a concise statement of work accomplished during the report period (see §§ 1260.22 and 1260.75(a)(3)).

* * * * *

3. Amend § 1260.70 by revising paragraphs (a) and (c) to read as follows:

§ 1260.70 Delegation of administration.

(a) If a grant or a cooperative agreement is awarded with Government-furnished property, administration should be delegated to the Office of Naval Research (ONR). If a grant or cooperative agreement has no Government-furnished property, administration will normally be performed by the issuing Center or by the NASA Shared Service Center (NSSC). However, the grant officer or the NSSC grant administrator has the option to delegate administration to ONR and should do so when exceptional administrative issues are anticipated. Other administration duties may be assigned as listed on NF 1674. Exceptions to this policy are:

(1) Training grants will not be delegated.

(2) Grants of short duration (9 months or less) or low dollar value ($50k or less) will normally not be delegated.

(3) Grant officers may waive specific administration requirements (as listed on NF 1674) in exceptional circumstances for individual grants. Exceptions to administration duties that are normally delegated must be justified and approved in writing by the Grant Officer, and made part of the file.

(4) Waiver of delegation of property administration duties that are to be instituted by a center as a standard practice constitutes a deviation to this handbook, and requires approval in accordance with § 1260.7.

* * * * *

(c) Upon acceptance of a delegation, ONR agrees to the following: ONR shall follow DoD property administration policies and procedures, plus the following NASA requirements:

(1) The recipient shall maintain property records and manage nonexpendable personal property in accordance with 14 CFR 1260.134. During Property Control System Analyses (PCSA), ONR will check the recipient's understanding and test compliance of property management requirements, including the accuracy of recipient property reports. ONR will provide one copy of each PCSA Report to the appropriate NASA center industrial property officer.

(2) ONR will investigate and notify NASA as appropriate for any unauthorized property acquisitions by the recipient. See the provision at § 1260.27.

(3) ONR will notify the cognizant grant officer and industrial policy officer when property is lost, damaged or destroyed.

(4) Under no circumstances will Government property be disposed without instructions from NASA.

(5) Prior to disposition, except when returned to NASA or reutilized on other NASA programs, ONR will ensure all NASA identifications are removed or obliterated from property, and hard drives of computers are cleared of sensitive or NASA owned/licensed software/data.

§ 1260.75 [Amended]

4. Amend § 1260.75 by removing paragraph (a) and redesignating paragraphs (b) through (d) as (a) through (c).

[FR Doc. E8-12419 Filed 6-12-08; 8:45 am]

BILLING CODE 7510-01-P